NATIONAL SCIENCE FOUNDATION

Proposal Review Panel for Chemistry; Notice of Meeting

In accordance with the Federal Advisory Committee Act (Pub. L. 92-463, as amended), the National Science Foundation announces the following meeting:

Name: CCI Phase II Panel, #1191

Date and Time: June 10, 2013, 8:30 a.m.-5:30 p.m.; June 11, 2013 8:30 a.m.-2:00 p.m.

Place: National Science Foundation, 4021 Wilson Blvd., Arlington, Virginia 22230.

Type of Meeting: Part-open.

Contact Person: Zeev Rosenzweig, Program Director, Centers for Chemical Innovation Program, Division of Chemistry, Room 1055, National Science Foundation, 4201 Wilson Boulevard, Arlington, VA 22230, (703) 292-7719.

To help facilitate your entry into the building, please contact the individual listed above. Your request to attend this meeting should be received by email (zrosenzw@nsf.gov) on or prior to June 6, 2013.

Purpose of Meeting: To conduct an in depth evaluation of performance, to assess progress towards goals, and to provide recommendations.

Agenda:

Monday, June 10, 2013

8:30 a.m.-9:30 a.m. Closed—Panel Briefing -

9:30 a.m.-12:30 a.m.-1 Open—Center Presentation and Poster Session, Stafford I, Room 1235

12:30 a.m.-5:30 p.m. Closed—Panel Briefing, Discussions, Drafting Summary: -

Tuesday, June 11, 2013

8:00 a.m.-1:00 p.m. Closed—Panel Briefing Formulating Recommendation and Finalizing the Panel Summary -

Reason for Closing: The meeting is closed to the public because the Panel will be reviewing proposal actions that will include privileged intellectual property and personal information that could harm individuals if they were disclosed. If discussions were open to the public, these matters that are exempt under 5 U.S.C. 552b(c)(4) and (6) of the Government Sunshine Act would be improperly disclosed.

Dated: May 21, 2013.
Susanne Bolton,
Committee Management Officer.

[FR Doc. 2013-12481 Filed 5-24-13; 8:45 am]

BILLING CODE 7555-01-P